DEPARTMENT OF VETERANS AFFAIRS

38 CFR Part 21

RIN 2900-AL44

Survivors' and Dependents' Educational Assistance Program Period of Eligibility for Eligible Children and Other Miscellaneous Issues

Correction

§ 21.3041 [Corrected]

In rule document E8-11726 beginning on page 30486 in the issue of Wednesday, May 28, 2008, make the following correction:

On page 30491, in the second column, in § 21.3041(i)(3)(iii), the authority citation “(Authority: 38 U.S.C. 3512(A)(3), (A)(4))” should read “(Authority: 38 U.S.C. 3512(a)(3), (a)(4))”.

[FR Doc. Z8-11726 Filed 6-2-08; 8:45 am]

BILLING CODE 1505-01-D